DEPARTMENT OF HEALTH AND HUMAN SERVICES

Administration for Children and Families

Proposed Information Collection Activity; Child Care and Development Fund Plan for Tribes for FY 2026-2028 (ACF-118A) (Office of Management and Budget #0970-0198)

AGENCY: Office of Child Care; Administration for Children and Families; U.S. Department of Health and Human Services.

ACTION: Request for public comments.

SUMMARY: The Administration for Children and Families (ACF) Office of Child Care (OCC) is requesting a 3-year extension of the form ACF-118A: Child Care and Development Fund for Tribes (Office of Management and Budget # 0970-0198, expiration April 4, 2025) for Federal Fiscal Year (FFY) 2026-2028. There are changes proposed to the form to improve formatting, streamline questions, and reduce burden.

DATES: Comments due within September 3, 2024. In compliance with the requirements of section 3506(c)(2)(A) of the Paperwork Reduction Act of 1995, ACF is soliciting public comment on the specific aspects of the information collection described above.

ADDRESSES: You can obtain copies of the proposed collection of information and submit comments by emailing infocollection@acf.hhs.gov. Identify all requests by the title of the information collection.

SUPPLEMENTARY INFORMATION:

Description: The Child Care and Development Fund (CCDF) Plan (the Plan) for Tribes is required from each CCDF Lead Agency in accordance with section 658E of the Child Care and Development Block Grant Act of 1990 (CCDBG Act), as amended, CCDBG Act of 2014 (Pub. L. 113-186), and 42 U.S.C. 9858. The majority of the Plan in this request is for tribal Lead Agencies that receive their funding directly from ACF, and does not apply to Tribes that consolidate their funding into approved 102-477 plans. However, all Tribes receiving CCDF funding must complete the triennial child count, which is part of the Plan. The Plan, submitted in the Child Care Automated Reporting System, is required triennially, and remains in effect for 3 years. The Plan provides ACF and the public with a description of, and assurance about the Tribes' child care programs. These Plans are the applications for CCDF funds.

OCC made the following changes based on feedback from tribes, including several listening sessions conducted over the past year:

• Reduced the burden overall by streamlining and removing questions;

• Revised questions based on 2024 CCDF final rule;

• Improved skip patterns to reduce burden; and

• Edited the document for plain language.

Respondents: Tribal CCDF Lead Agencies.

Annual Burden Estimates
Instrument | Total number of respondents | Total number of responses per respondent | Average burden hours per response | Total burden hours | Annual burden hours
Triennial Child Count Only (all tribes) | 264 | 1 | 20 | 5,280 | 1,760
ACF 118A Part I (for all direct funded tribes) | 214 | 1 | 60 | 12,840 | 4,280
ACF-118A Part II (for direct funded tribes with small allocations only) | 138 | 1 | 5 | 690 | 230
ACF-118A Part III (for direct funded tribes with medium and large allocations only) | 76 | 1 | 20 | 1,520 | 507
Estimated Total Burden Over 3 Years and Total Annual Burden Hours |  |  |  | 20,330 | 6,777

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: Public Law 113-186 and 42 U.S.C. 9858c.

Mary C. Jones,
ACF/OPRE Certifying Officer.

[FR Doc. 2024-14530 Filed 7-1-24; 8:45 am]

BILLING CODE 4184-87-P